FEDERAL TRADE COMMISSION

16 CFR Part 23

Guides for the Jewelry, Precious Metals, and Pewter Industries

AGENCY: Federal Trade Commission (“FTC” or “Commission”).

ACTION: Extension of deadline for submission of public comments.

SUMMARY: The FTC is extending the deadline for filing public comments on the Guides for the Jewelry, Precious Metals, and Pewter Industries.

DATES: Comments will be accepted until June 3, 2016.

ADDRESSES: Interested parties may file comments online or on paper by following the instructions at the end of the SUPPLEMENTARY INFORMATION section below. Write “Jewelry Guides, 16 CFR part 23, Project No. G711001” on your comment, and file your comment online at https://ftcpublic.commentworks.com/ftc/jewelryguidesreview by following the instructions on the web-based form. If you prefer to file your comment on paper, mail your comment to the following address: Federal Trade Commission, Office of the Secretary, 600 Pennsylvania Avenue NW., Suite CC-5610 (Annex O), Washington, DC 20580, or deliver your comment to the following address: Federal Trade Commission, Office of the Secretary, Constitution Center, 400 7th Street SW., 5th Floor, Suite 5610 (Annex O), Washington, DC 20024.

FOR FURTHER INFORMATION CONTACT: Reenah L. Kim, Attorney, (202) 326-2272, Division of Enforcement, Bureau of Consumer Protection, Federal Trade Commission, 600 Pennsylvania Avenue NW., Washington, DC 20580.

SUPPLEMENTARY INFORMATION:On January 12, 2016, as part of the Commission's systematic review of its rules and guides, the FTC published a notice in the Federal Register (“FRN”) requesting public comments on proposed revisions to the Guides for the Jewelry, Precious Metals, and Pewter Industries (“Jewelry Guides” or “Guides”).¹ As set forth in the FRN, the Commission proposed several changes and additions designed to help prevent deception in jewelry marketing. The FRN invited comments on the proposed revisions generally, and also posed a series of 75 questions on specific issues. The FRN set April 4, 2016 as the deadline for filing comments.

¹ 81 FR 1349 (Jan. 12, 2016).

A trade association representing jewelry industry members, Jewelers Vigilance Committee (“JVC”), requests a 60-day extension of the comment deadline. JVC explains that the FRN poses many questions that may require consumer research, metallurgical testing, and other information developed through experts. JVC states that additional time is therefore needed for the committees it has convened to coordinate their work, perform the necessary analysis, and develop meaningful consumer research and other expert information.

Given the complexity and range of issues raised in the FRN, including the request for consumer perception evidence, the Commission believes that allowing additional time for filing comments would help facilitate the creation of a more complete record. Moreover, this brief extension would not harm consumers because the current Guides remain in effect during the review process. Therefore, the Commission has decided to extend the comment period to June 3, 2016.

You can file a comment online or on paper. For the Commission to consider your comment, we must receive it on or before June 3, 2016. Write “Jewelry Guides, 16 CFR part 23, Project No. G711001” on your comment. Your comment—including your name and your state—will be placed on the public record of this proceeding, including, to the extent practicable, on the public Commission Web site, at http://www.ftc.gov/os/publiccomments.shtm. As a matter of discretion, the Commission tries to remove individuals' home contact information from comments before placing them on the Commission Web site. Because your comment will be made public, you are solely responsible for making sure that your comment does not include any sensitive personal information, such as anyone's Social Security number, date of birth, driver's license number or other state identification number or foreign country equivalent, passport number, financial account number, or credit or debit card number. You are also solely responsible for making sure that your comment does not include any sensitive health information, such as medical records or other individually-identifiable health information. In addition, do not include any “trade secret or any commercial or financial information which . . . is privileged or confidential,” as discussed in Section 6(f) of the FTC Act, 15 U.S.C. 46(f), and FTC Rule 4.10(a)(2), 16 CFR 4.10(a)(2). In particular, do not include competitively sensitive information such as costs, sales statistics, inventories, formulas, patterns, devices, manufacturing processes, or customer names.

If you want the Commission to give your comment confidential treatment, you must file it in paper form, with a request for confidential treatment, and you must follow the procedure explained in FTC Rule 4.9(c), 16 CFR 4.9(c).² Your comment will be kept confidential only if the FTC General Counsel, in his or her sole discretion, grants your request in accordance with the law and the public interest.

² In particular, the written request for confidential treatment that accompanies the comment must include the factual and legal basis for the request and must identify the specific portions of the comment to be withheld from the public record. See FTC Rule 4.9(c), 16 CFR 4.9(c).

Postal mail addressed to the Commission is subject to delay due to heightened security screening. Accordingly, we encourage you to submit your comments online. To make sure that the Commission considers your online comment, you must file it at https://ftcpublic.commentworks.com/ftc/jewelryguidesreview by following the instructions on the web-based form. If this Notice appears at http://www.regulations.gov, you also may file a comment through that Web site.

If you file your comment on paper, write “Jewelry Guides, 16 CFR part 23, Project No. G711001” on your comment and on the envelope, and mail it to the following address: Federal Trade Commission, Office of the Secretary, 600 Pennsylvania Avenue NW., Suite CC-5610 (Annex O), Washington, DC 20580, or deliver your comment to the following address: Federal Trade Commission, Office of the Secretary, Constitution Center, 400 7th Street SW., 5th Floor, Suite 5610 (Annex O), Washington, DC 20024. If possible, submit your paper comment to the Commission by courier or overnight service.

Visit the Commission Web site at http://www.ftc.gov to read this Notice and the news release describing it. The FTC Act and other laws that the Commission administers permit the collection of public comments to consider and use in this proceeding as appropriate. The Commission will consider all timely and responsive public comments that it receives on or before June 3, 2016. You can find more information, including routine uses permitted by the Privacy Act, in the Commission's privacy policy at http://www.ftc.gov/ftc/privacy.htm.

By direction of the Commission.
Donald S. Clark
Secretary.

[FR Doc. 2016-04883 Filed 3-4-16; 8:45 am]

BILLING CODE 6750-01-P